DEPARTMENT OF STATE

[Public Notice 5438]

Determination on U.S. Position on Proposed World Bank Group's International Financial Corporation (IFC) Projects in Bosnia and Herzegovina

Pursuant to section 561 of the Foreign Operations, Export Financing, and Related Programs Appropriations Act, 2006 (Pub. L. 109-102) (FOAA), and Department of State Delegation of Authority Number 289, I hereby determine that the proposed 4.0 million Euro ICF investment package to transform the Ekonomic Kredit Institution (EKI) from a not-for-profit into a commercial financial organization and the 3.0 million Euro IFC investment package to transform MIBOSPO into a commercial financial organization to increase their micro lending capacities, will contribute to a stronger economy in Bosnia and Herzegovina, directly supporting implementation of the Dayton Accords. I therefore waive the application of section 561 of the FOAA to the extent that provision would otherwise prevent the U.S. Executive Directors of the IFC from voting in favor of these projects.

This Determination shall be reported to the Congress and published in the Federal Register.

Dated: May 30, 2006.
Daniel Fried,
Assistant Secretary of State For European and Eurasian Affairs, Department of State.

[FR Doc. E6-9133 Filed 6-9-06; 8:45 am]

BILLING CODE 4710-23-P